DEPARTMENT OF HOMELAND SECURITY

Coast Guard

33 CFR Parts 173, 174, 181, and 187

[Docket No. USCG-2003-14963]

RIN 1625-AB45

Changes to Standard Numbering System, Vessel Identification System, and Boating Accident Report Database

AGENCY: Coast Guard, DHS.

ACTION: Rule; information collection approval.

SUMMARY: On March 28, 2012, the Coast Guard amended its regulations related to numbering undocumented vessels and reporting boating accidents. The amendment affects three collections of information and adds to the recordkeeping and reporting requirements of vessel owners and agencies involved in issuing vessel registration and reporting boating accidents. This notice announces that the Office of Management and Budget approved changes to the collections of information with control numbers 1625-0003, 1625-0070, and 1625-0108, which will now be enforced.

DATES: The collection of information requirements under 33 CFR 173.57(c), 174.16(b), 174.17(c), and 174.19(c) will be enforced beginning January 31, 2013.

FOR FURTHER INFORMATION CONTACT: If you have questions about this document, contact Mr. Jeff Ludwig, Office of Auxiliary and Boating Safety; telephone 202-372-1061, or email Jeffrey.A.Ludwig@uscg.mil. If you have questions about viewing the docket (USCG-2003-14963), call Ms. Renee V. Wright, Program Manager, Docket Operations, telephone 202-366-9826.

SUPPLEMENTARY INFORMATION: With the exception of the revised collection of information provisions, the Changes to Standard Numbering System, Vessel Identification System, and Boating Accident Report Database rule became effective on April 27, 2012. Under the Paperwork Reduction Act of 1995 (44 U.S.C. 3501-3520), an agency may not conduct or sponsor a collection of information until the collection is approved by the Office of Management and Budget (OMB). Accordingly, the preamble to the final rule stated that the Coast Guard would not enforce the collection of information requirements in 33 CFR 173.57(c), 174.16(b), 174.17(c), and 174.19(c) until the collection of information requests were approved by OMB. The preamble also stated that the Coast Guard would publish a notice in the Federal Register informing the public of OMB's decision to approve, modify, or disapprove the collections.

The Coast Guard submitted the information collection requests to OMB for approval in accordance with the Paperwork Reduction Act of 1995. OMB approved the collections of information on December 2, 2012, for 1625-0003, on December 16, 2012, for 1625-0108, and on December 27, 2012, for 1625-0070. The approvals for these collections of information expire on December 31, 2015. Copies of the OMB notices of action are available in our online docket (USCG-2003-14963) at http://www.regulations.gov.

Dated: January 16, 2013.
Paul F. Thomas,
Captain, U.S. Coast Guard, Director of Inspections & Compliance.

[FR Doc. 2013-02081 Filed 1-30-13; 8:45 am]

BILLING CODE 9110-04-P